CORPORATION FOR NATIONAL AND COMMUNITY SERVICE

Homeland Security NOFA Discussion Forum

AGENCY: Corporation for National and Community Service.

ACTION: Notice.

SUMMARY: The Corporation for National and Community Service will host a series of five teleconference calls to discuss, and answer questions regarding, the recent Notice of Availability of Funds to Strengthen Communities and Organizations in Using Service and Volunteers to Support Homeland Security, published in the Federal Register on March 8, 2002 (67 FR 10684). Please send discussion questions via e-mail to homelandnofa@cns.gov prior to the calls. We will consider all discussion questions, although we cannot guarantee that every item will be discussed due to the high number of expected participants. Teleconference participation is limited to the first 100 callers. The toll-free number for all five calls is 1-877-921-2789. The pass code is verbal: “GARY.” Callers will also be required to provide the conference leader's name (Gary Kowalczyk, Coordinator of National Service Programs).

DATES: Teleconference calls will take place on the following dates and times:

Tuesday, March 26, 2002, 3:30-5:00 p.m. EST.

Wednesday, March 27, 2002, 2:00-3:30 p.m. EST.

Friday, March 29, 2002, 3:00-4:30 p.m. EST.

Tuesday, April 2, 2002, 3:30-5:00 p.m. EST.

Friday, April 5, 2002, 2:30-4:00 p.m. EST.

ADDRESSES: Our address is The Corporation for National and Community Service, 1201 New York Avenue, NW, Washington, DC 20525.

FOR FURTHER INFORMATION CONTACT: For further information, contact Deena Johnson (202-606-5000, ext. 562) or Femi Estrada-Petersen (202-606-5000, ext. 192), or e-mail homelandnofa@cns.gov.

Dated: March 20, 2002.
Gary Kowalczyk,
Coordinator, National Service Programs.

[FR Doc. 02-7113 Filed 3-22-02; 8:45 am]

BILLING CODE 6050-$$-P